DEPARTMENT OF ENERGY

Federal Energy Regulatory Commission

Notice of Attendance at PJM Interconnection, L.L.C. Meetings

The Federal Energy Regulatory Commission (Commission) hereby gives notice that members of the Commission and Commission staff may attend upcoming PJM Interconnection, L.L.C. (PJM) Members Committee and Markets and Reliability Committee meetings, as well as other PJM committee, subcommittee or task force meetings.¹ The Commission and Commission staff may attend the following meetings:

¹ For example, PJM subcommittees and task forces of the standing committees (Operating, Planning and Market Implementation) and senior standing committees (Members and Markets and Reliability) meet on a variety of different topics; they convene and dissolve on an as-needed basis. Therefore, the Commission and Commission staff may monitor the various meetings posted on the PJM Web site.

PJM Members Committee

• April 27, 2017 (Wilmington, DE)

• May 15-17, 2017 (Chicago, IL)

• June 22, 2017 (Wilmington, DE)

• July 27, 2017 (Wilmington, DE)

• September 28, 2017 (Audubon, PA)

• October 26, 2017 (Wilmington, DE)

• November 30, 2017 (Wilmington, DE)

PJM Markets and Reliability Committee

• April 27, 2017 (Wilmington, DE)

• May 25, 2017 (Wilmington, DE)

• June 22, 2017 (Wilmington, DE)

• July 27, 2017 (Wilmington, DE)

• August 24, 2017 (Wilmington, DE)

• September 28, 2017 (Audubon, PA)

• October 26, 2017 (Wilmington, DE)

• November 30, 2017 (Wilmington, DE)

• December 21, 2017 (Wilmington, DE)

PJM Market Implementation Committee

• April 12, 2017 (Audubon, PA)

• May 3, 2017 (Audubon, PA)

• June 7, 2017 (Audubon, PA)

• July 12, 2017 (Audubon, PA)

• August 9, 2017 (Audubon, PA)

• September 13, 2017 (Audubon, PA)

• October 11, 2017 (Audubon, PA)

• November 8, 2017 (Audubon, PA)

• December 13, 2017 (Audubon, PA)

The discussions at each of the meetings described above may address matters at issue in pending proceedings before the Commission, including the following currently pending proceedings:

Docket No. EL05-121, PJM Interconnection, L.L.C.

Docket No. ER12-2708, Potomac-Appalachian Transmission Highline, LLC. et. al.

Docket No. EL13-88, Northern Indiana Public Service Company v. Midcontinent Independent System Operator, Inc. and PJM Interconnection, L.L.C.

Docket No. EL14-37, PJM Interconnection, L.L.C.

Docket No. ER14-972, PJM Interconnection, L.L.C.

Docket Nos. ER14-1461, EL14-48, PJM Interconnection, L.L.C.

Docket No. EL15-18, Consolidated Edison Company of New York, Inc. v. PJM Interconnection, L.L.C.

Docket Nos. EL15-29, ER15-623, PJM Interconnection, L.L.C.

Docket No. EL15-41, Essential Power Rock Springs, LLC, et al., v. PJM Interconnection, L.L.C.

Docket No. EL15-67, Linden VFT, LLC v. PJM Interconnection, L.L.C.

Docket Nos. EL15-73, ER16-372, PJM Interconnection, L.L.C.

Docket No. EL15-79, TranSource, LLC v. PJM Interconnection, L.L.C.

Docket No. EL15-95, Maryland and Delaware State Commissions v. PJM Interconnection, L.L.C.

Docket No. ER15-1387, PJM Interconnection, L.L.C.

Docket Nos. ER15-2562, ER15-2563, PJM Interconnection, L.L.C.

Docket Nos. EL16-6, ER16-121, PJM Interconnection, L.L.C.

Docket No. EL16-49, Calpine Corporation, et. al., v. PJM Interconnection, L.L.C.

Docket Nos. EL16-71, ER17-179, Monongahela Power Company, et. al., PPL Electric Utilities Corporation

Docket Nos. EL16-96, ER16-736, ER16-2401, PJM Interconnection, L.L.C.

Docket No. ER16-453, PJM Interconnection, L.L.C., and Northeast Transmission Development, LLC

Docket No. EL17-22, Independent Market Monitor for PJM Interconnection, L.L.C. v. American Electric Power Corporation

Docket No. EL17-31, Northern Illinois Municipal Power Agency v. PJM Interconnection, L.L.C.

Docket No. EL17-32, Old Dominion Electric Cooperative v. PJM Interconnection, L.L.C.

Docket No. EL17-36, Advanced Energy Management Alliance v. PJM Interconnection, L.L.C.

Docket No. EL17-37, American Municipal Power, Inc. v. PJM Interconnection, L.L.C.

Docket No. ER17-211, Mid-Atlantic Interstate Transmission, LLC

Docket Nos. ER17-214, ER17-216, PJM Interconnection, L.L.C.

Docket No. ER17-217, PJM Interconnection, L.L.C.

Docket No. ER17-335, PJM Interconnection, L.L.C.

Docket No. ER17-367, PJM Interconnection, L.L.C.

Docket Nos. ER17-718, ER17-729, PJM Interconnection, L.L.C., Midcontinent Independent System Operator, Inc.

Docket No. ER17-725, PJM Interconnection, L.L.C.

Docket Nos. ER17-753, PJM Interconnection, L.L.C.

Docket No. ER17-775, PJM Interconnection, L.L.C.

Docket No. ER17-905, New York Independent System Operator, Inc. v. PJM Interconnection, L.L.C.

Docket No. ER17-934, PJM Interconnection, L.L.C.

Docket No. ER17-950, PJM Interconnection, L.L.C.

Docket No. ER17-1016, PJM Interconnection, L.L.C.

Docket No. ER17-1057, PJM Interconnection, L.L.C.

Docket No. ER17-1083, RC Cape May Holdings, LLC

Docket No. ER17-1138, PJM Interconnection, L.L.C.

Docket No. ER17-1236, PJM Interconnection, L.L.C.

Docket No. ER17-1306, PJM Interconnection, L.L.C.

For additional meeting information, see: http://www.pjm.com/committees-and-groups.aspx and http://www.pjm.com/Calendar.aspx.

The meetings are open to stakeholders. For more information, contact Valerie Martin, Office of Energy Market Regulation, Federal Energy Regulatory Commission at (202) 502-6139 or Valerie.Martin@ferc.gov.

Dated: March 31, 2017.
Kimberly D. Bose,
Secretary.

[FR Doc. 2017-06844 Filed 4-5-17; 8:45 am]

BILLING CODE 6717-01-P